BROADCASTING BOARD OF GOVERNORS

Sunshine Act Meeting

DATE AND TIME: Wednesday, June 19, 2013, 8:00 a.m.-8:05 a.m. EDT.

PLACE: Radio Free Europe/Radio Liberty, 1201 Connecticut Ave. NW., 4th Floor, Washington, DC 20036.

SUBJECT: Notice of Meeting of the Broadcasting Board of Governors.

SUMMARY: The Broadcasting Board of Governors (BBG) will meet at the time and location listed above. A quorum of the Board will not be present on the date of the meeting.

The public may attend this meeting in person at the address listed above as seating capacity permits. Member of the public seeking to attend the meeting in person must register at http://bbgboardmeetingjune2013.eventbrite.com/ by 9:00 a.m. (EDT) on June 18. For more information, please contact BBG Public Affairs at (202) 203-4400 or by email at pubaff@bbg.gov. This meeting will also be available for public observation via streamed webcast, both live and on-demand, on the BBG's public Web site at www.bbg.gov. Information regarding this meeting, including any updates or adjustments to its starting time, can also be found on the Agency's public Web site.

CONTACT PERSON FOR MORE INFORMATION: Persons interested in obtaining more information should contact Paul Kollmer-Dorsey at (202) 203-4545.

Paul Kollmer-Dorsey,
Deputy General Counsel.

[FR Doc. 2013-14423 Filed 6-13-13; 11:15 am]

BILLING CODE 8610-01-P